DEPARTMENT OF EDUCATION

National Board of the Fund for the Improvement of Postsecondary Education

Meeting

ACTION: Notice of meeting.

SUMMARY: This notice provides the proposed agenda of a forthcoming meeting of the National Board of the Fund for the Improvement of Postsecondary Education. This notice also describes the functions of the Board. Notice of this meeting is required under Section 10(a)(2) of the Federal Advisory Committee Act. This notice is published less than 15 days prior to the date of the meeting as a result of special administrative clearances.

DATE AND TIME: March 20, 2001, 9 a.m. to 3:30 p.m.

ADDRESSES: The Washington Court Hotel, 525 New Jersey Avenue, NW., Washington, DC Telephone: (202) 628-2100.

FOR FURTHER INFORMATION CONTACT: Donald Fischer, U.S. Department of Education, 1990 K Street NW., Washington, DC 20006-8544. Telephone: (202) 502-7500 or by e-mail: donald_fischer@ed.gov Individuals who use a telecommunication device for the deaf (TDD) may call the Federal Information Relay Service (FIRS) at 1-800-877-8339 between 8 a.m. and 8 p.m., Eastern time, Monday through Friday).

Individuals with disabilities may obtain this document in an alternate format (e.g., Braille, large print, audiotape, or computer diskette) on request to the contact person listed in the preceding paragraph.

SUPPLEMENTAL INFORMATION: The National Board of the Fund for the Improvement of Postsecondary Education is established under Title VII, Part B, Section 742 of the Higher Education Amendments of 1998 (20 U.S.C. 1138a). The National Board of the Fund is authorized to recommend to the Director of the Fund and the Assistant Secretary for Postsecondary Education priorities for funding and procedures for grant awards.

The meeting of the National Board is open to the public. The National Board will meet on Tuesday, March 20, 2001, from 9 a.m. to 3:30 p.m. to provide an overview of the Fund's program status and special initiatives.

The meeting site is accessible to individuals with disabilities. An individual with a disability who will need an auxiliary aid or service to participate in the meeting (e.g., interpreting service, assistive listening device or materials in an alternate format) should notify the contact person listed in this notice as soon as possible before the scheduled meeting date. Although the Department will attempt to meet such a request, the requested auxiliary aid or service may not be available because of insufficient time to arrange it.

Records are kept of all Board proceedings, and are available for public inspection at the office of the Fund for the Improvement of Postsecondary Education, 8th Floor, 1990 K Street NW., Washington, DC 20006-8544 from the hours of 8 a.m. to 4:30 p.m.

Dated: March 8, 2001.
Maureen A. McLaughlin,
Deputy Assistant Secretary for Policy, Planning and Innovation, Office of Postsecondary Education.

[FR Doc. 01-6210 Filed 3-12-01; 8:45 am]

BILLING CODE 4000-01-U